DEPARTMENT OF DEFENSE

Department of the Army; Corps of Engineers

Notice of Intent To Prepare a Draft Environmental Impact Statement in Cooperation With the North Carolina Department of Transportation for Improvements to the US 70 Corridor Between the Town of LaGrange, Lenoir County and the Town of Dover, Jones County, NC, the Proposed Project Would Ultimately Serve as a Bypass to the Town of Kinston, NC

AGENCY: Department of the Army, U.S. Army Corps of Engineers, DoD.

ACTION: Notice of Intent.

SUMMARY: The U.S. Army Corps of Engineers (COE), Wilmington District, Wilmington Regulatory Division is issuing this notice to advise the public that a State of North Carolina funded Draft Environmental Impact Statement (DEIS) will be prepared for improvements to the transportation system starting near the intersection of US 70 and NC 903 near the Town of LaGrange, Lenoir County, heading east near the intersection of US 70 and Old US 70 (NCSR-1005) near the Town of Dover, Jones County, NC.

FOR FURTHER INFORMATION CONTACT: Questions about the proposed action and DEIS can be directed to Mr. Tom Steffens, Regulatory Project Manager, Washington Regulatory Field Office, 2407 West 5th Street, Washington, NC 27889; telephone: (910) 251-4615 or Mr. Bob Deaton, Project Development Engineer, North Carolina Department of Transportation, 1548 Mail Service Center, Raleigh, NC 27699-1548, Telephone: (919) 707-6017.

SUPPLEMENTARY INFORMATION: The COE in cooperation with the North Carolina Department of Transportation (NCDOT) will prepare an Environmental Impact Statement (EIS) on a proposal to make transportation improvements to the US 70 corridor between the Town of LaGrange, Lenoir County and the Town of Dover, Jones County, NC. The North Carolina Department of Transportation Improvement Program (TIP R-2553 US 70 Kinston Bypass) project will serve as a Geographic Information System (GIS) pilot project to test and evaluate streamlining the project development process by utilizing GIS data for alternative development, alternative analysis, and selection of the Least Environmentally Damaging Practicable Alternative (LEDPA).

The purpose of the US 70 Kinston Bypass project is to improve regional mobility, connectivity and capacity deficiencies on US 70 between LaGrange and Dover. The project study area is roughly bounded on the west by NC-903 and US 70 near LaGrange, on the north by the Lenoir/Greene County line, to the east near Dover and to the south at the Duplin/Lenoir County line.

This project is being reviewed through the Merger 01 process designed to streamline the project development and permitting processes, agreed to by the COE, North Carolina Department of Environment and Natural Resources (Division of Water Resources, Division of Coastal Management), Federal Highway Administration (for this project not applicable), North Carolina Department of Transportation and supported by other stakeholder agencies and local units of government. The other partnering agencies include: U.S. Environmental Protection Agency; U.S. Fish and Wildlife Service; N.C. Wildlife Resources Commission; N.C. Department of Cultural Resources; and the Eastern Carolina Rural Planning Organization. The Merger process provides a forum for appropriate agency representatives to discuss and reach consensus on ways to facilitate meeting the regulatory requirements of Section 404 of the Clean Water Act during the NEPA/SEPA decision-making phase of transportation projects.

In June 2010 the project was presented to Federal and State Resource and Regulatory Agencies to gain concurrence on the purpose and need for the project. The aforementioned purpose and need of the project was agreed upon by participating agencies in October of 2010. In November 2011, the project was again presented to participating agencies regarding the preliminary corridor screening process in an attempt to decide which alternatives would be carried forward for detailed analysis. Multiple meetings throughout 2012 and 2013 revised the initial number of alternatives carried forward for detailed analysis down to a reasonable range. In January of 2014, the final alternatives to carry forward were decided. Since 2011, the Corps has been working closely with NCDOT and its representatives to identify jurisdictional resources within the alternatives carried forward. This effort should be complete sometime in summer of 2014.

Three citizen informational workshops were held in Kinston for the US 70 Kinston Bypass project between 2010 and 2012. The February 23 and 25, 2010 meeting presented the overall project, the project team and project decision process. A total of 291 participants signed in, with 67 written comments received via general question survey. The September 20 and 21, 2011 meeting presented the potential route options to the public. A total of 172 participants signed in and 48 comments were received via general question survey. The May 15 and 17, 2012 meeting presented the alternatives selected for detailed study to the public. A total of 185 participants signed in and 54 comments were received via general question survey. There was no clear support or opposition to the project noted as a result of the surveys.

Environmental consequences: CEQ regulations (40 CFR 1502.16) state the EIS will include the environmental impacts of the alternatives including the proposed action, any adverse environmental effects which cannot be avoided should the proposal be implemented, the relationship between short-term uses of man's environment and the maintenance and enhancement of long-term productivity, and any irreversible or irretrievable commitments of resources which would be involved in the proposal should it be implemented. The EIS will assess a reasonable number of alternatives and identify and disclose the direct impacts of the proposed project on the following: Topography, geology, soils, climate, biotic communities, wetlands, fish and wildlife resources, endangered and threatened species, hydrology, water resources and water quality, floodplains, hazardous materials, air quality, noise, aesthetics, recreational resources, historical and cultural resources, socioeconomics, land use, public health and safety, energy requirements and conservation, natural or non-renewable resources, drinking waters, and environmental justice.

Secondary and cumulative environmental impacts: Cumulative impacts result from the incremental impact of the proposed action when added to past, present, and reasonably foreseeable future actions, regardless of what agency or person undertakes the action. Geographic Information System (GIS) data and mapping will be used to evaluate and quantify secondary and cumulative impacts of the proposed Project with particular emphasis given to wetlands and surface/groundwater resources.

Mitigation: CEQ regulations (40 CFR 1502.14, 1502.16, and 1508.20) require the EIS to include appropriate mitigation measures. The USACE has adopted, through the CEQ, a mitigation policy which embraces the concepts of “no net loss of wetlands” and project sequencing. The purpose of this policy is to restore and maintain the chemical, biological, and physical integrity of “Waters of the United States,” specifically wetlands. Mitigation of wetland impacts has been defined by the CEQ to include: avoidance of impacts (to wetlands), minimizing impacts, rectifying impacts, reducing impacts over time, and compensating for impacts (40 CFR 1508.20). Each of these aspects (avoidance, minimization, and compensatory mitigation) must be considered in sequential order. As part of the EIS, the applicant will develop a compensatory mitigation plan detailing the methodology and approach to compensate for unavoidable impacts to waters of the U.S. including streams and wetlands.

NEPA/SEPA Preparation and Permitting: Because the proposed project requires approvals from federal and state agencies under both the National Environmental Policy Act (NEPA) and the State Environmental Policy Act (SEPA), a joint Federal and State Environmental Impact Statement (EIS) will be prepared. The U.S. Army Corps of Engineers will serve as the lead agency for the process. The EIS will serve as the NEPA document for the Corps of Engineers (404 permit) and as the SEPA document for the State of North Carolina (401 permit).

Based on the size, complexity, and potential impacts of the proposed project, the Applicant has been advised by the U.S. Army Corps of Engineers to identify and disclose the environmental impacts of the proposed project in an Environmental Impact Statement (EIS). Within the EIS, the Applicant will conduct a thorough environmental review, including an evaluation of a reasonable number of alternatives. After distribution and review of the Draft EIS and Final EIS, the Applicant understands that the U.S. Army Corps of Engineers in coordination with the North Carolina Department of Transportation will issue a Record of Decision (ROD) for the project. The ROD will document the completion of the EIS process and will serve as a basis for permitting decisions by federal and state agencies.

To ensure that the full range of issues related to this proposed action are addressed and all significant issues identified, comments and suggestions are invited from all interested parties. Comments or questions concerning this proposed action and the EIS should be directed to the US Army Corps of Engineers at the address provided above. The Wilmington District will periodically issue Public Notices soliciting public and agency comment on the proposed action and alternatives to the proposed action as they are developed.

Henry M. Wicker, Jr.,
Deputy Chief, Regulatory Division.

[FR Doc. 2014-21664 Filed 9-10-14; 8:45 am]

BILLING CODE 3720-58-P